ENVIRONMENTAL PROTECTION AGENCY

[FRL-8778-2]

EPA Science Advisory Board Staff Office; Request for Nominations of Experts To Augment the Science Advisory Board Exposure and Human Health Committee

AGENCY: Environmental Protection Agency (EPA).

ACTION: Notice.

SUMMARY: The SAB Staff Office is requesting the nomination of experts to augment the Science Advisory Board (SAB) Exposure and Human Health Committee (EHHC) to review updated values for EPA's Integrated Risk Information System (IRIS).

DATES: Nominations should be submitted by March 23, 2009 per instructions below.

FOR FURTHER INFORMATION CONTACT: Any member of the public wishing further information regarding this Request for Nominations may contact Dr. Sue Shallal, Designated Federal Officer (DFO), SAB Staff Office, by telephone/voice mail at (202) 343-9977; by fax at (202) 233-0643; or via e-mail at shallal.suhair@epa.gov. General information concerning the EPA Science Advisory Board can be found on the EPA SAB Web site at http://www.epa.gov/sab.

SUPPLEMENTARY INFORMATION: Background: EPA's Office of Research and Development has initiated a process for updating the values currently found in the Integrated Risk Information System (IRIS) database. The intent of the IRIS Update Project is to review all dose-response assessment values (oral reference doses [RfDs], inhalation reference concentrations [RfCs], cancer slope factors, and inhalation unit risks) in IRIS that have a posting date more than 10-years old. Further information on the IRIS Update process can be found at the following URL: http://cfpub.epa.gov/ncea/cfm/recordisplay.cfm?deid=204063. ORD has requested that the Science Advisory Board (SAB) conduct a pilot review of draft assessments for several chemicals.

The SAB was established by 42 U.S.C. 4365 to provide independent scientific and technical advice, consultation and recommendations to the EPA Administrator on the technical basis for Agency positions and regulations. In response to ORD's request, the SAB Staff Office will augment the SAB Exposure and Human Health Committee (EHHC) with additional experts to review EPA's draft assessments of several IRIS chemicals. The augmented EHHC will comply with the provisions of the Federal Advisory Committee Act (FACA) and all appropriate SAB procedural policies. Upon completion, the panel's report will be submitted to the chartered SAB for final approval for transmittal to the EPA Administrator. The augmented EHHC is being asked to comment on the scientific soundness of nine draft assessments.

Availability of the Review Materials: The EPA draft assessments to be reviewed by the augmented EHHC will be made available by the Office of Research and Development at the following URL: http://cfpub.epa.gov/ncea/cfm/recordisplay.cfm?deid=204063. For questions and information concerning the review materials, please contact Dr. Chon Shoaf, at (919) 541-4155, or shoaf.chon@epa.gov.

Request for Nominations: The SAB Staff Office is requesting nominations of nationally recognized experts with expertise in one or more of the following areas: chemical toxicology and risk assessment, including reproductive/developmental toxicology, neurotoxicity and carcinogenicity; and dose-response assessment.

Process and Deadline for Submitting Nominations: Any interested person or organization may nominate qualified individuals for possible service on the augmented EHHC in the areas of expertise described above. Nominations should be submitted in electronic format (which is preferred over hard copy) following the instructions for “Nominating Experts to Advisory Panels and Ad Hoc Committees Being Formed” provided on the SAB Web site. The form can be accessed through the “Nomination of Experts” link on the blue navigational bar on the SAB Web site at http://www.epa.gov/sab. To receive full consideration, nominations should include all of the information requested.

EPA's SAB Staff Office requests contact information about: The person making the nomination; contact information about the nominee; the disciplinary and specific areas of expertise of the nominee; the nominee's curriculum vita; sources of recent grant and/or contract support; and a biographical sketch of the nominee indicating current position, educational background, research activities, and recent service on other national advisory committees or national professional organizations.

Persons having questions about the nomination procedures, or who are unable to submit nominations through the SAB Web site, should contact Dr. Sue Shallal, DFO, as indicated above in this notice. Nominations should be submitted in time to arrive no later than March 23, 2009.

The EPA SAB Staff Office will acknowledge receipt of nominations. The names and biosketches of qualified nominees identified by respondents to the Federal Register notice and additional experts identified by the SAB Staff will be posted on the SAB Web site at http://www.epa.gov/sab. Public comments on this “Short List” of candidates will be accepted for 21 calendar days. The public will be requested to provide relevant information or other documentation on nominees that the SAB Staff Office should consider in evaluating candidates.

For the EPA SAB Staff Office, a balanced subcommittee or review panel includes candidates who possess the necessary domains of knowledge, the relevant scientific perspectives (which, among other factors, can be influenced by work history and affiliation), and the collective breadth of experience to adequately address the charge. In establishing the augmented EHHC, the SAB Staff Office will consider public comments on the “Short List” of candidates, information provided by the candidates themselves, and background information independently gathered by the SAB Staff Office. Selection criteria to be used for Panel membership include: (a) Scientific and/or technical expertise, knowledge, and experience (primary factors); (b) availability and willingness to serve; (c) absence of financial conflicts of interest; (d) absence of an appearance of a lack of impartiality; and (e) skills working in committees, subcommittees and advisory panels; and, for the Panel as a whole, (f) diversity of, and balance among, scientific expertise, viewpoints, etc.

The SAB Staff Office's evaluation of an absence of financial conflicts of interest will include a review of the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at http://www.epa.gov/sab/pdf/ec02010.pdf.

Dated: February 23, 2009.
Anthony F. Maciorowski,
Deputy Director, EPA Science Advisory Board Staff Office.

[FR Doc. E9-4348 Filed 2-27-09; 8:45 am]

BILLING CODE 6560-50-P